DEPARTMENT OF ENERGY

Federal Energy Regulatory Commission

[Project No. 2047-004 et al.]

Niagara Power Corporation et al.; Notice of Meeting for the Upper Hudson River Projects DEIS

August 6, 2001.

a. Date and Time of Meeting: August 29, 2001, 7 pm to 9 pm.

b. Place: Town Hall, Town of Hadley, 4 Stony Creek Road, Hadley, New York 12835.

c. FERC Contact: Lee Emery (202) 219-2779; e-mail at lee.emery@ferc.fed.us.

d. Purpose of the Meeting: To summarize the conclusions reached in the Draft Multiple Project Environmental Impact Statement (DEIS) issued by the Federal Energy Regulatory Commission (Commission) on May 18, 2001, for the Upper Hudson River Projects and to give the public an opportunity to ask questions about the content and conclusions of that DEIS. The hydroelectric projects included in the DEIS are the E.J. West (FERC Project No. 2318-002), Stewarts Bridge (FERC Project No. 2047-004), Hudson River (FERC Project No. 2482-014), and Feeder Dam (FERC Project No. 2554-003) projects located on the Sacandaga and Hudson rivers in Saratoga, Fulton, Warren, and Hamilton counties, New York. All the projects are currently licensed to Erie Boulevard Hydropower, L.P.

David P. Boergers,
Secretary.

[FR Doc. 01-20063 Filed 8-9-01; 8:45 am]

BILLING CODE 6717-01-P